DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 20, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 3, 2024.
Donald P. Burger,
Chief, General Approvals and Permits Branch.

Application No. | Applicant | Regulation(s) affected | Nature of the special permits thereof
Special Permits Data—Granted
11107-M | Pacific Scientific Energetic Materials Company (California) LLC | 173.51(a), 173.54 | To authorize the transportation in commerce of certain Division 1.4 explosive devices which have not been examined and approved to be shipped as Division 1.1 devices under certain conditions.
13211-M | Copperhead Chemical Company, Inc | 172.102(c)(5) | To modify the special permit to authorize an additional packaging.
15999-M | Lockheed Martin Corporation | 172.300, 172.400, 173.1 | To modify the special permit to authorize an alternative transportation route.
20352-M | Schlumberger Technology Corp | 173.301(f), 173.302(a), 173.304(a) | To modify the special permit to authorize an additional packaging.
20907-M | Versum Materials US, LLC | 171.23(a)(1), 171.23(a)(3) | To modify the special permit to authorize a cylinder in transportation or a cylinder filled prior to the expiration of the authorized service life to be transported to be emptied.
21195-M | Panasonic Energy Corporation of America | 173.185(c)(1)(iii) | To modify the special permit to authorize an additional lithium metal cell, to update the cell testing requirements, and to authorize an additional location.
21300-M | Distributor Operations, Inc | 172.200, 172.300, 172.400, 171.2(k), 173.159(e)(1) | To modify the special permit to authorize the transportation in commerce of batteries containing acid or alkali, battery acid fluid, non-spillable wet batteries, and lithium ion batteries in the same transport vehicle without being subject to certain requirements of the HMR.
21459-N | Hopkins Holdings LLC | 173.306(a)(1) | To authorize the transportation in commerce of 2P receptacles, with capacities exceeding 4 fluid ounces, containing butane as limited quantities.
21489-N | Stericycle, Inc | 171.1 | To authorize the manufacture, mark, sale, and use of the non-bulk combination packaging specified in paragraph 7.a. for the transportation in commerce of certain materials authorized to be disposed of under 21 CFR Part 1317, Subpart B.
21490-M | Myers Industries, Inc | 173.28(b)(2), 173.28(b)(2), 178.509(b)(7), 178.509(b)(7), 178.601(h), 178.601(h) | To modify the special permit to authorize testing variations 3 and 5 under 49 CFR 178.601(g)(3) and (5).
21538-N | Evolve Renewable Materials, Inc | 172.200, 172.300, 172.400, 172.102(c)(1), 173.185(c)(1)(iii), 173.185(c)(1)(iv), 173.185(c)(1)(v), 173.185(c)(3), 173.159a(c)(2) | To authorize the manufacture, mark, sale, and use of UN standard 4G fiberboard boxes for the transportation in commerce of certain batteries without shipping papers and certain marking and labeling when transported for recycling or disposal.
21551-N | Bollore Logistics Germany GmbH | 172.300, 172.400, 172.101(j), 173.301(f), 173.302a(a)(1), 173.185(a)(1), 172.101(j)(1), 173.220 | To authorize the transportation in commerce of certain hazardous materials installed in spacecraft or components of spacecraft.
21575-N | Luxfer Inc | 173.302(a)(1), 173.304(a) | To authorize the manufacture, mark, sale, and use of non-DOT specification fully wrapped carbon fiber reinforced composite cylinder with a seamless aluminum liner. The cylinders may be used for the transportation in commerce of the hazardous materials listed in paragraph 6.
21588-N | Ford Motor Company | 173.185(h) | To authorize the transportation in commerce of lithium ion batteries exceeding 35 kg aboard cargo-only aircraft.
21589-N | Department of Energy | 173.301(h), 173.302(a) | To authorize the transportation in commerce of compressed helium in a non-DOT specification pressure vessel.
21593-N | Livent USA Corp | 172, 173 | To authorize the transportation in commerce of certain hazardous materials between applicant facilities (distances of less than one mile) without being subject to Part 172 and Part 173 of the Hazardous Materials Regulations.
21598-N | ME Logistic Services GmbH & Co.KG | 173.185(e) | To authorize the shipment of low production batteries exceeding the quantity limitation.
21617-N | Astra Space Operations, Inc | 173.301(f), 173.302a(a)(1) | To authorize the transportation in commerce of non-DOT specification cylinders that are not equipped with pressure relief devices. (spacecraft)
21625-N | Brainerd Helicopter Services, Inc | 172.400, 172.101(j), 172.200, 172.204(c)(3), 172.301(c), 173.27(b)(2), 175.75 | To authorize the transportation in commerce of certain hazardous materials by 14 CFR Part 135 aircraft without being subject to certain hazard communication requirements, quantity limitations and certain loading and stowage requirements.
21640-N | Mark Rite Lines Equipment Company, Inc. | 173.5a(c)(2)(ii) | To authorize the manufacture, mark, sale, and use of non-DOT specification cargo tanks used for roadway striping that do not have a minimum design pressure of 100 psig in accordance with 49 CFR § 173.5a(c)(2).
21649-N | Minnesoda Club LLC | 171.2(k), 171.2(k) | To authorize the transportation in commerce of certain DOT 3AL, TC/3ALM and UN ISO 7866 cylinders that contain carbon dioxide, with alternative hazard communication.
21666-N | CMC Materials EC, Inc | 173.22(a)(2), 173.24(c)(1)(i) | To authorize the transportation in commerce of certain oxidizing liquids in alternative packaging.
21668-N | IMC Companies, LLC | 172.320, 172.301(a)(1), 172.301(c), 173.62 | To authorize the transportation of primers, cap type packaged in non-specification combination fiberboard boxes that are not marked with the proper shipping name specified in the § 172.101 Hazardous Materials Table and the EX-number.
Special Permits Data—Denied
Special Permits Data—Withdrawn
20500-M | California Department of Toxic Substances Control | 171-180 | To modify the special permit to authorize use in all natural disaster areas.
20677-M | Department of Defense (Military Surface Deployment & Distribution Command) | 173.302(a)(1), 173.302(a)(1) | To modify the special permit to authorize additional packagings.
21670-N | Australian Federal Police | 172.700(a), 172.400, 172.200, 172.300, 175.75(b) | To authorize the transportation in commerce of Division 6.1 hazardous materials in the cabin of a passenger-carrying aircraft.

[FR Doc. 2024-00812 Filed 1-17-24; 8:45 am]

BILLING CODE P